DEPARTMENT OF VETERANS AFFAIRS

[OMB Control No. 2900-0663]

Agency Information Collection (Pay Now Enter Info Page) Activity Under OMB Review

AGENCY: Office of Management, Department of Veterans Affairs.

ACTION: Notice.

SUMMARY: In compliance with the Paperwork Reduction Act (PRA) of 1995 (44 U.S.C. 3501-3521), this notice announces that the Office of Management (OM), Department of Veterans Affairs, will submit the collection of information abstracted below to the Office of Management and Budget (OMB) for review and comment. The PRA submission describes the nature of the information collection and its expected cost and burden; it includes the actual data collection instrument.

DATES: Comments must be submitted on or before June 18, 2014.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0663” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0663.”

SUPPLEMENTARY INFORMATION: Title: Pay Now Enter Info Page.

OMB Control Number: 2900-0663.

Type of Review: Revision of a currently approved collection.

Abstract: Claimants who participated in VA's benefit programs and owe debts to VA can voluntary make online payments through VA's Pay Now Enter Info Page Web site. Data enter on the Pay Now Enter Info Page is redirected to the Department of Treasury's Pay.gov Web site allowing claimants to make payments with credit or debit cards, or directly from their bank account. At the conclusion of the transaction, the claimant will receive a confirmation acknowledging the success or failure of the transaction.

An agency may not conduct or sponsor, and a person is not required to respond to a collection of information unless it displays a currently valid OMB control number. The Federal Register Notice with a 60-day comment period soliciting comments on this collection of information was published on January 31, 2014, at page 5529.

Affected Public: Individuals or households.

Estimated Annual Burden: 24,667 hours.

Estimated Average Burden per Respondent: 10 minutes.

Frequency of Response: Daily.

Estimated Number of Respondents: 148,000.

Dated: May 13, 2014.
By direction of the Secretary.
Crystal Rennie,
VA Clearance Officer, Department of Veterans Affairs.

[FR Doc. 2014-11404 Filed 5-16-14; 8:45 am]

BILLING CODE 8320-01-P